NATIONAL AERONAUTICS AND SPACE ADMINISTRATION

[Notice (20-049)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Tuesday, June 2, 2020, 10:00 a.m.-6:45 p.m., Eastern Time.

ADDRESSES: Virtual meeting via dial-in teleconference and WebEx only.

FOR FURTHER INFORMATION CONTACT: Ms. Marcia Joseph, NAC Administrative Officer, NASA Headquarters, Washington, DC 20546, 202-358-4717; marcia.joseph@nasa.gov.

SUPPLEMENTARY INFORMATION: As noted above, this meeting will be available telephonically and by WebEx only. You must use a touch-tone phone to participate in this meeting. Any interested person may dial the toll-free access number 1-888-455-2183 or toll access number 1-773-799-3802, and then the numeric participant passcode: 3122217 to participate in the meeting. Note: Please “mute” your phone. The WebEx link is: https://nasaenterprise.webex.com/nasaenterprise/onstage/g.php?MTID=e18bf23e25e4ef98fd9d3cb71391d645b and the meeting number is 907 327 400; the password is d7bJAXw3t*7 (case sensitive).

Note: Please be advised that the NASA large event WebEx account is being used to support this meeting; this WebEx account is incompatible with the newest Mac operating system introduced in October 2019—MacOS Catalina.

The agenda for the meeting will include reports from the following:

—Aeronautics Committee

—Human Exploration and Operations Committee

—Regulatory and Policy Committee

—Science Committee

—STEM Engagement Committee

—Technology, Innovation and Engineering Committee

In accordance with 41 CFR parts 101-6 and 102-3, Federal Advisory Committee Management; Final Rule, Section 102-3.150(b), this meeting is being held with less than 15 calendar days' notice due to technical and administrative priorities associated with this meeting. It is imperative that the meeting be held on this date to accommodate the scheduling priorities of the key participants.

Patricia Rausch,
Advisory Committee Management Officer, National Aeronautics and Space Administration.

[FR Doc. 2020-11008 Filed 5-20-20; 8:45 am]

BILLING CODE 7510-13-P